DEPARTMENT OF THE INTERIOR

Fish and Wildlife Service

[FWS-R2-ES-2015-N166: FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before October 1, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-60660A

Applicant: Janine Spencer, Tucson, Arizona.

Applicant requests an amendment to a current permit for research and recovery purposes to conduct presence/absence surveys of southwestern willow flycatcher (Empidonax traillii extimus) within Arizona.

Permit TE-026711

Applicant: U.S. Forest Service—Coconino National Forest, Flagstaff, Arizona.

Applicant requests a renewal to a current permit for research and recovery purposes to conduct presence/absence surveys of the following species in Arizona:

• Black-footed ferret (Mustela nigripes)

• Colorado pikeminnow (Ptychocheilus lucius)

• Gila chub (Gila intermedia)

• Gila topminnow (Poeciliopsis occidentalis occidentalis)

• Loach minnow (Rhinichthys cobitis)

• Razorback sucker (Xyrauchen texanus)

• Southwestern willow flycatcher (Empidonax traillii extimus)

• Spikedace (Meda fulgida)

• Yuma clapper rail (Rallus longirostris yumanensis)

Permit TE-53840A

Applicant: David Griffin, Saguarita, Arizona.

Applicant requests a renewal to a current permit for research and recovery purposes to conduct presence/absence surveys of northern aplomado falcon (Falcon femoralis septentrionalis) and southwestern willow flycatcher (Empidonax traillii extimus) within Arizona.

Permit TE-72321B

Applicant: Christopher Francke, Cedar Park, Texas.

Applicant requests a new permit for research and recovery purposes to conduct presence/absence surveys for the following species within Texas:

• Austin blind salamander (Eurycea waterlooensis)

• Barton Springs salamander (Eurycea sosorum)

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Spring riffle beetle (Heterelmis comalensis)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Kretschmarr Cave mold beetle (Texamaurops reddelli)

• Madla Cave meshweaver (Cicurina madla)

• Peck's Cave amphipod (Stygobromus [=Sthygonectes] Pecki)

• Robber Baron Cave meshweaver (Cicurina baronia)

• Texas blind salamander (Typhlomolge rahtbuni)

• Tooth Cave ground beetle (Rhadine persephone)

• Tooth Cave pseudoscorpion (Tartarocreagris texana)

• Tooth Cave spider (Neoleptoneta (=Leptoneta) myopica)

Permit TE-72324B

Applicant: Lauren Dill, Austin, Texas.

Applicant requests a new permit for research and recovery purposes to conduct presence/absence surveys for golden-cheeked warbler (Dendroica chrysoparia) within Texas.

Permit TE-73317B

Applicant: Charles Britt, Las Cruces, New Mexico.

Applicant requests a new permit for research and recovery purposes to conduct presence/absence surveys for southwestern willow flycatcher (Empidonax traillii extimus) and northern aplomado falcon (Falco femoralis septentrionalis) within Arizona, New Mexico, and Texas.

Permit TE-73321B

Applicant: Yvette Paroz, Albuquerque, New Mexico.

Applicant requests a new permit for research and recovery purposes to conduct presence/absence surveys of Zuni bluehead sucker (Catostomus discobolus yarrowi), spikedace (Meda fulgida), and loach minnow (Rhinichthys cobitis) within New Mexico.

Permit TE-73327B

Applicant: Northeastern State University, Tahlequah, Oklahoma.

Applicant requests a new permit for research and recovery purposes to conduct presence/absence surveys of American burying beetle (Nicrophorus americanus) within Oklahoma.

Permit TE-73330B

Applicant: Phillip Hargrove, Buffalo Gap, Texas.

Applicant requests a new permit for research and recovery purposes to conduct presence/absence surveys for black-capped vireo (Vireo atricapilla) within Texas.

Permit TE-797127

Applicant: U.S. Army Corps of Engineers, Albuquerque, New Mexico.

Applicant requests an amendment to a current permit for research and recovery purposes to conduct presence/absence surveys of southwestern willow flycatcher (Empidonax traillii extimus) within Arizona and Texas.

Permit TE-078189

Applicant: Adkins Consulting, Inc., Durango, Colorado.

Applicant requests an amendment to a current permit for research and recovery purposes to conduct presence/absence surveys of southwestern willow flycatcher (Empidonax traillii extimus) within Arizona, Colorado, and Utah.

Permit TE-827726

Applicant: U.S. Forest Service—Tonto National Forest, Phoenix, Arizona.

Applicant requests a renewal to a current permit for research and recovery purposes to conduct presence/absence surveys for the following species in Arizona:

• Colorado pikeminnow (Ptychocheilus lucius)

• Desert pupfish (Cyprinodon macularius)

• Gila topminnow (Poeciliopsis occidentalis occidentalis)

• Razorback sucker (Xyrauchen texanus)

• Southwestern willow flycatcher (Empidonax traillii extimus)

• Yuma clapper rail (Rallus longirostris yumanensis)

Permit TE-73970B

Applicant: Alan Butler, Austin, Texas.

Applicant requests a new permit for research and recovery purposes to conduct presence/absence surveys of fountain darter (Etheostoma fonticola), smalleye shiner (Notropis buccula), and sharpnose shiner (Notropis oxyrhynchus) within Texas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: August 24, 2015.
Joy E. Nicholopoulos,
Acting Regional Director, Southwest Region, U.S. Fish and Wildlife Service.

[FR Doc. 2015-21589 Filed 8-31-15; 8:45 am]

BILLING CODE 4310-55-P